DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before December 3, 2003.

ADDRESSES: Written comments should be submitted to the Chief, Endangered Species Division, Ecological Services, P.O. Box 1306, Albuquerque, New Mexico 87103. Documents and other information submitted with these applications are available for review, subject to the requirements of the Privacy Act and Freedom of Information Act. Documents will be available for public inspection, by appointment only, during normal business hours at the U.S. Fish and Wildlife Service, 500 Gold Avenue SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-834782

Applicant: WestLand Resources, Inc., Tucson, Arizona

Applicant requests an amendment to an existing permit to allow presence/absence surveys for Yuma clapper rail (Rallus longirostris yumanensis) within Arizona.

Permit No. TE-077699

Applicant: Charles H. Lewis, Phoenix, Arizona

Applicant requests a new permit for research and recovery purposes to conduct presence/absence surveys for the cactus ferruginous pygmy-owl (Glaucidium brasilianum cactorum) within Arizona.

Permit No. TE-076050

Applicant: McAlester Army Ammunition Plant, McAlester, Oklahoma

Applicant requests a new permit for research and recovery purposes to conduct presence/absence surveys for the American burying beetle (Nicrophorus americanus) within Oklahoma.

Permit No. TE-078070

Applicant: University of Arizona, Environmental Research Laboratory, Tucson, Arizona

Applicant requests a new permit for research and recovery purposes to receive bonytail chub (Gila elegans) and Apache trout (Oncorhynchus apache), in order to assess the effects of water quality on the endocrine system function of these species.

Permit No. TE-078189

Applicant: Adkins Consulting, Farmington, New Mexico

Applicant requests a new permit for research and recovery purposes to conduct presence/absence surveys for the following species within New Mexico: black-footed ferret (Mustela nigripes), southwestern willow flycatcher (Empidonax traillii extimus), Knowlton cactus (Pediocactus knowltonii), and Mancos milk-vetch (Astragalus humillimus).

Permit No. TE-078127

Applicant: The Dallas World Aquarium Corporation, Dallas, Texas

Applicant requests a new permit for research and recovery purposes to allow education display of the hawksbill sea turtle (Eretmochelys imbricata) and Kemp's ridley sea turtle (Lepidochelys kempii).

Permit No. TE-078304

Applicant: Terri L. Symonds, Dallas, Texas

Applicant requests a new permit for research and recovery purposes to conduct presence/absence surveys for the following species where they occur within Arizona, California, New Mexico, and Texas: black-capped vireo (Vireo atricapilla), cactus ferruginous pygmy owl (Glaucidium brasilianum cactorum), golden-cheeked warbler (Dendroica chrysoparia), least Bell's vireo (Vireo bellii pusillus), southwestern willow flycatcher (Empidonax traillii extimus), and Yuma clapper rail (Rallus longirostris yumanensis).

Permit No. TE-078347

Applicant: U.S. Fish and Wildlife Service, Ajo, Arizona

Applicant requests a permit for individuals to possess, capture, administer health care, introduce, manage, monitor, maintain, and breed Sonoran pronghorn (Antilocapra americana sonoriensis) within the Semi-Captive Breeding Facility located on the Cabeza Prieta National Wildlife Refuge.

Authority: 16 U.S.C. 1531, et seq.

Dated: October 14, 2003.
Bryan Arroyo,
Assistant Regional Director, Ecological Services, Region 2, Albuquerque, New Mexico.

[FR Doc. 03-27546 Filed 10-31-03; 8:45 am]

BILLING CODE 4310-55-P